DEPARTMENT OF HEALTH AND HUMAN SERVICES

Health Resources and Services Administration

Bureau of Health Professions All-Advisory Committee Meeting

In accordance with section 10(a)(2) of the Federal Advisory Committee Act (Pub. L. 92-463), notice is hereby given of the following meeting:

Name: Bureau of Health Professions All-Advisory Committee, Meeting (AACM).

Date and Time: November 9, 2011, 8 a.m.-5 p.m.

Place: Georgetown University Hotel and Conference Center, 3800 Reservoir Road, NW., Washington, DC 20057, Telephone: 202-687-3200.

Status: The meeting will be open to the public.

Purpose: The purpose of the meeting is to provide a venue for the Bureau of Health Professions' (BHPr) four advisory committees [the Council on Graduate Medical Education (COGME), the Advisory Committee on Training in Primary Care Medicine and Dentistry (ACTPCMD), the Advisory Committee on Interdisciplinary, Community-Based Linkages (ACICBL), and the National Advisory Council on Nurse Education and Practice (NACNEP)] to develop a common knowledge of performance measurement and longitudinal evaluation in their new role of partnering with BHPr to improve program effectiveness.

Agenda: The AACM agenda will include updates on Bureau priorities, review of the new responsibilities for the advisory committees in response to the Affordable Care Act, newly revised BHPr performance measures and longitudinal evaluation plans. Agenda items are subject to change as priorities dictate.

For Further Information Contact: Anyone interested in obtaining a roster of members, minutes of the meeting, or other relevant information can contact the Bureau of Health Professions, Office of the Associate Administrator, 5600 Fishers Lane, Room 9-05, Rockville, Maryland 20857; telephone (301) 443-5794. Information can also be found at the following Web site: http://www.hrsa.gov/advisorycommittees/bhpraac/.

Dated: October 6, 2011.
Reva Harris,
Acting Director, Division of Policy and Information Coordination.

[FR Doc. 2011-26451 Filed 10-12-11; 8:45 am]

BILLING CODE 4165-15-P